DEPARTMENT OF STATE

[Public Notice 3305]

Bureau of Educational and Cultural Affairs Southeast Europe Youth Leadership Program; Notice: Request for Proposals

SUMMARY: The Office of Citizen Exchanges, Youth Programs Division, of the Bureau of Educational and Cultural Affairs announces an open competition for the Southeast Europe Youth Leadership Program. Public and private non-profit organizations meeting the provisions described in IRS regulation 26 CFR 1.501(c) may submit proposals to (A) recruit and select youth participants in Albania, Bosnia-Herzegovina, Kosovo, and Montenegro or (B) provide the youth with a U.S.-based project focused on civic education, leadership, and community activism, or (C) both. Organizations should apply to implement a grant for at least 24 of the 60 participants. Priority consideration will be given to organizations that can do both parts and/or can manage all of the Part A or the Part B activities for all participants.

Program Information

Overview

Secondary school students and adults (educators and/or community activists) from Albania, Bosnia and Herzegovina, Kosovo, and Montenegro will participate in four-to six-week-long projects in the United States with a focus on civic education and youth leadership. They will participate in workshops, community service activities, meetings with community leaders, and discussion groups. This project will serve the emerging priorities of leadership training and civic education for youth in Southeast Europe, as well as providing an introduction to the topics of citizen activism for a civil society, conflict resolution and intergroup dialogue.

The goals of the program are:

(1) To provide a civic education program that helps the participants understand civic participation and the rights and responsibilities of citizens in a democracy;

(2) To develop leadership skills among secondary school students appropriate to their needs; and

(3) To foster relationships among youth from different ethnic and religious groups based on their commonalities.

ECA expects to award approximately $294,000 for this program in grants to no more than three organizations. An organization may apply to administer “Part A,” “Part B,” or both. If necessary, ECA will then match selected organizations to administer the two parts of the program.

Part A: An organization may apply to administer the recruitment and selection of participants in Albania, Bosnia-Herzegovina, Kosovo, and/or Montenegro, and to conduct pre-departure orientations and follow-up debriefings.

Part B: An organization may apply to implement the U.S.-based program for the participants, including all programmatic and logistical arrangements for a group of 12 to 15 participants.

Part A and Part B: Organizations with a capacity and desire to administer both the in-country recruitment and selection of participants and the U.S. programming may apply to manage all components of the project.

Guidelines

Timing: Grants should begin on or about September 1, 2000, subject to the availability of funds. The grant period will be 15 months in duration. The projects will take place in either January 2001 or during the summer of 2001. Each project will be four to six weeks in length (January projects will be no more than four weeks).

Participants: The participants will be (1) approximately 50 students, aged 15 to 18, who have demonstrated leadership aptitude and an interest in community service, and (2) approximately ten adults who are teachers, administrators, and/or community leaders who work with youth. Participants will be proficient in English. The approximate number of participants (both students and educators) will be as follows: Albania—18; Bosnia-Herzegovina—6; Kosovo—18; Montenegro—18.

Criteria for selection of participants will be strong leadership skills, an interest in service to the community, strong academic and social skills, overall composure, and English proficiency. It is important that two or three participants attend or teach at the same school or live in the same community so that they have the support of others upon their return home.

Groups: The program will be divided into four or five teams in order to accommodate the proposed number of participants in reasonably sized groups and to offer diverse programming. Each group will be a mix of students and adult educators (e.g., 10 students and 2 teachers or community leaders). Each applicant organization should apply to implement a grant for at least 24 individuals.

The size of each group will be around 12 to 15 participants. Ideally, each group should have participants representing at least three of the four geographic areas identified above, and the ethnic groups within them, as possible. These requirements may be adjusted depending on the grant recipient's resources for recruitment and selection, but the organizers must strive for the broadest regional and ethnic diversity. The Department of State and/or its overseas representatives reserve final approval of all selected delegations.

Part A—Recruitment and Selection

The grant recipient will manage the recruitment and selection of participants in cooperation with the Public Affairs Sections (PAS) at the U.S. Embassies or other USG representative offices in the region.

Part B—U.S. Program

Grants will be provided to U.S.-based nonprofit organizations for designing and implementing projects focusing on leadership development, civic education, community service, computer training, and conflict resolution. Each project will provide a sampling of topics for breadth, with a more complex exploration of one or two of these topics for depth. Some activities should be school-based, as feasible, and the project will involve as much interaction with American peers as possible. The projects may take place in up to three communities in order to offer the participants exposure to the variety of American life. Participants will stay with host families for at least two weeks of the project. Community contributions to the program will be expected.

Programs must comply with J-1 visa regulations. Please be sure to refer to the complete Solicitation Package—this RFP, the Project Objectives, Goals, and Implementation (POGI), and the Proposal Submission Instructions (PSI)—for further information.

Budget Guidelines

The total amount of funding available for this project is $294,000 and may be disbursed through grants to several organizations. The Bureau reserves the right to reduce, revise, or increase proposal budgets in accordance with the needs of the program and the availability of funds. Organizations with less than four years of experience in conducting international exchange programs will be eligible only for grants of $60,000 or less for Part A of this competition, and are not eligible at all for Part B of this competition because the minimum grant will exceed $60,000.

Applicants must submit a comprehensive budget for the entire program. There must be a summary budget as well as breakdowns reflecting both administrative and program budgets. Applicants may provide separate sub-budgets for each program component, phase, location, or activity to provide clarification.

Please refer to the complete Solicitation Package. The POGI outlines allowable costs; the PSI offers complete budget guidelines and formatting instructions.

Announcement Title and Number

All correspondence with the Bureau concerning this RFP should reference the above title and number ECA/PE/C-00-56.

FOR FURTHER INFORMATION CONTACT: The Youth Programs Division, ECA/PE/C/PY, Room 568, U.S. Department of State, 301 4th Street, SW, Washington, DC 20547, telephone: (202) 619-6299, fax: (202) 619-5311; e-mail: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposals

All proposal copies must be received at the Bureau of Educational and Cultural Affairs by 5 p.m. Washington, DC time on Wednesday, June 21, 2000. Faxed documents will not be accepted at any time. Documents postmarked the due date but received on a later date will not be accepted. Each applicant must ensure that the proposals are received by the above deadline.

Applicants must follow all instructions in the Solicitation Package. The original and nine copies of the application should be sent to: U.S. Department of State, SA-44, Bureau of Educational and Cultural Affairs, Ref.: ECA/PE/C-00-56, Program Management, ECA/EX/PM, Room 336, 301 4th Street, SW, Washington, DC 20547.

Applicants must also submit the “Executive Summary” and “Proposal Narrative” sections of the proposal on a 3.5″ diskette, formatted for DOS. These documents must be provided in ASCII text (DOS) format with a maximum line length of 65 characters. The Bureau will transmit these files electronically to U.S. Department of State representatives overseas for their review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as Department of State representatives overseas, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Authority

Overall grant making authority for this program is contained in the Mutual Educational and Cultural Exchange Act of 1961, Public Law 87-256, as amended, also known as the Fulbright-Hays Act. The purpose of the Act is “to enable the Government of the United States to increase mutual understanding between the people of the United States and the people of other countries . . . ; to strengthen the ties which unite us with other nations by demonstrating the educational and cultural interests, developments, and achievements of the people of the United States and other nations . . . and thus to assist in the development of friendly, sympathetic and peaceful relations between the United States and the other countries of the world.” The funding authority for the program above is provided through Support for Eastern European Democracy (SEED) legislation.

Section 566 of the FY 2000 Foreign Operations Authorization Act restricts most forms of assistance to countries, entities, and municipalities which are determined to harbor publicly indicted war criminals in the former Yugoslavia. On February 9, the Secretary [of State] issued a determination that the Republika Srpska and Serbia (excluding Kosovo) were subject to Section 566 restrictions. On March 15, the Secretary issued the determination . . . that waived FOAA restrictions for the RS and Serbia, but only for carefully targeted categories of assistance. Certain RS municipalities remain subject to a comprehensive assistance ban. Any assistance to them, except for emergency foods or medical or demining assistance, would require a separate waiver for specified activities, and must be justified on the basis that achievement of Dayton goals provide an overriding justification, e.g., minority returns or concrete democratization objectives. The assistance for Serbia is carefully designed to be compatible with standing U.S. policy against providing significant assistance until there is a transition to democracy in Belgrade.

In the Republika Srpska, support for . . . USAID and State public diplomacy programs promoting democratization, reconciliation, and free and independent media . . . is exempt from these restrictions. The municipalities of Foca, Pale, and Prijedor are excluded from this waiver, because competent authorities have failed to take necessary and significant steps to apprehend and transfer war crimes indictees to the International Criminal Tribunal for the Former Yugoslavia. These municipalities will not be eligible for new U.S. assistance.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 26, 2000.
Evelyn S. Lieberman,
Under Secretary for Public Diplomacy and Public Affairs, U.S. Department of State.

[FR Doc. 00-11024 Filed 5-3-00; 8:45 am]

BILLING CODE 4710-11-P